DEPARTMENT OF DEFENSE

Office of the Secretary

Renewal of the Board of Visitors for the Department of Defense Regional Security Centers

ACTION: Notice.

SUMMARY: The Board of Visitors for the Department of Defense Regional Security Centers was renewed, effective May 1, 2000, in consonance with the public interest, and in accordance with the provisions of Pub. L. 92-463, the “Federal Advisory Committee Act.”

The Board of Visitors, comprised of a balanced membership of leading experts in the field of national security, is essential in providing advice and counsel to the Secretary of Defense, other senior Pentagon officials, and sound management of the DoD Regional Security Centers. The Board members are chosen for their experience and knowledge of national security affairs, academics, and regional political-military issues. They advise senior DoD officials on matters relating to mission, policy, course content, faculty, and administration of the Centers.

FOR FURTHER INFORMATION CONTACT: John Berry, Director, Regional Affairs (703) 695-6386.

Dated: May 23, 2000.
Linda M. Bynum,
Alternate OSD Federal Liaison Officer, Department of Defense.

[FR Doc. 00-13407 Filed 5-26-00; 8:45 am]

BILLING CODE 5001-10-M